ENVIRONMENTAL PROTECTION AGENCY

[EPA-R09-OAR-2008-0128; FRL-8749-2]

Agency Information Collection Activities; Proposed Collection; Comment Request; Survey of 56 California County Agricultural Commissioners for Readiness To Implement the Enforcement Component of the U.S. EPA Endangered Species Protection Program

AGENCY: Environmental Protection Agency (EPA).

ACTION: Notice.

SUMMARY: In compliance with the Paperwork Reduction Act (PRA) (44 U.S.C. 3501 et seq.), this document announces that EPA is planning to submit a request for a new Information Collection Request (ICR) to the Office of Management and Budget (OMB). Before submitting the ICR to OMB for review and approval, EPA is soliciting comments on specific aspects of the proposed information collection as described below.

DATES: Comments must be submitted on or before February 9, 2009.

ADDRESSES: Submit comments, identified by docket number EPA-R09-OAR-2008-0128, by one of the following methods:

1. Federal eRulemaking Portal: http://www.regulations.gov. Follow the on-line instructions.

2. E-mail: estrada.fabiola@epa.gov.

3. Mail or deliver: Fabiola Estrada (CED-5), U.S. Environmental Protection Agency Region IX, 75 Hawthorne Street, San Francisco, CA 94105-3901.

Instructions: All comments will be included in the public docket without change and may be made available online at http://www.regulations.gov, including any personal information provided, unless the comment includes Confidential Business Information (CBI) or other information whose disclosure is restricted by statute. Information that you consider CBI or otherwise protected should be clearly identified as such and should not be submitted through http://www.regulations.gov or e-mail. http://www.regulations.gov is an “anonymous access” system, and EPA will not know your identity or contact information unless you provide it in the body of your comment. If you send e-mail directly to EPA, your e-mail address will be automatically captured and included as part of the public comment. If EPA cannot read your comment due to technical difficulties and cannot contact you for clarification, EPA may not be able to consider your comment.

Docket: The index to the docket for this action is available electronically at http://www.regulations.gov and in hard copy at EPA Region IX, 75 Hawthorne Street, San Francisco, California. While all documents in the docket are listed in the index, some information may be publicly available only at the hard copy location (e.g., copyrighted material), and some may not be publicly available in either location (e.g., CBI). To inspect the hard copy materials, please schedule an appointment during normal business hours with the contact listed in the FOR FURTHER INFORMATION CONTACT section.

FOR FURTHER INFORMATION CONTACT: Fabiola Estrada, EPA Region IX, (415) 972-3493, estrada.fabiola@epa.gov.

SUPPLEMENTARY INFORMATION: Throughout this document, “we,” “us” and “our” refer to EPA.

What Information Is EPA Particularly Interested in?

Pursuant to section 3506(c)(2)(A) of the PRA, EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

What Should I Consider When I Prepare My Comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What Information Collection Activity or ICR Does This Apply to?

Affected entities: Entities potentially affected by this action are the County Agricultural Commissioners in the state of California.

Title: Survey of 56 California County Agricultural Commissioners for Readiness to Implement the Enforcement component of the U.S. EPA Endangered Species Protection Program.

ICR numbers: EPA ICR No. 2287.01, OMB Control No. 20XX-NEW.

ICR status: This ICR is for a new information collection activity. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: For nearly twenty years, the California Department of Pesticide Regulation (DPR) has worked with county agricultural commissioners on behalf of U.S. EPA to refine measures that would protect federally listed species while minimizing impacts on agriculture and other beneficial uses of pesticides. DPR vetted these measures in local advisory groups consisting of farmers, pest control advisors, pesticide applicators, representatives of the California Department of Fish and Game, California Department of Food and Agriculture, U.S. Fish and Wildlife Service and other species experts and they were ultimately adopted by the County Agricultural Commissioners and Sealers Association (CACASA). DPR developed the Pesticide Regulation's Endangered Species Custom Real-time Internet Bulletin Engine (PRESCRIBE), an Internet database, to simplify distribution of endangered species protection measures (California's county bulletins) and has trained county agricultural commissioner staff and pesticide professionals in its use. So far, these measures have been voluntary. While many counties have incorporated endangered species protection as a routine part of their regulatory programs, DPR does not know the full extent of implementation in all counties. All (56) California county agricultural commissioners will be surveyed through a written questionnaire to determine their readiness to implement the U.S. EPA Endangered Species Protection Program as it transitions from voluntary to mandatory status. Responses are voluntary. The collected information will guide further work needed by DPR to prepare for the new stage in the protection of endangered species. A summary report will be provided to the respondents to inform them of the survey results.

Burden Statement: The annual public reporting and recordkeeping burden for this collection of information is estimated to average less than one hour per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here:

Estimated total number of potential respondents: 56.

Frequency of response: Once.

Estimated total average number of responses for each respondent: 12—based on the # of questions on the questionnaire.

Estimated total annual burden hours: 56.

Estimated total annual costs: $6,000 for collection of information and an estimated cost of $3,000 for capital investment or maintenance and operational costs.

What is the Next Step in the Process for this ICR?

EPA will consider the comments received and amend the ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Dated: November 25, 2008.
Laura Yoshii,
Acting Regional Administrator, Region IX.

[FR Doc. E8-29121 Filed 12-8-08; 8:45 am]

BILLING CODE 6560-50-P